DEPARTMENT OF HEALTH AND HUMAN SERVICES

Centers for Medicare & Medicaid Services

[Document Identifier: CMS-10829]

Agency Information Collection Activities: Submission for OMB Review; Comment Request

AGENCY: Centers for Medicare & Medicaid Services, Health and Human Services (HHS).

ACTION: Notice.

SUMMARY: The Centers for Medicare & Medicaid Services (CMS) is announcing an opportunity for the public to comment on CMS' intention to collect information from the public. Under the Paperwork Reduction Act of 1995 (PRA), federal agencies are required to publish notice in the Federal Register concerning each proposed collection of information, including each proposed extension or reinstatement of an existing collection of information, and to allow a second opportunity for public comment on the notice. Interested persons are invited to send comments regarding the burden estimate or any other aspect of this collection of information, including the necessity and utility of the proposed information collection for the proper performance of the agency's functions, the accuracy of the estimated burden, ways to enhance the quality, utility, and clarity of the information to be collected, and the use of automated collection techniques or other forms of information technology to minimize the information collection burden.

DATES: Comments on the collection(s) of information must be received by the OMB desk officer by December 6, 2024.

ADDRESSES: Written comments and recommendations for the proposed information collection should be sent within 30 days of publication of this notice to www.reginfo.gov/public/do/PRAMain. Find this particular information collection by selecting “Currently under 30-day Review—Open for Public Comments” or by using the search function.

To obtain copies of a supporting statement and any related forms for the proposed collection(s) summarized in this notice, please access the CMS PRA website by copying and pasting the following web address into your web browser: https://www.cms.gov/Regulations-and-Guidance/Legislation/PaperworkReductionActof1995/PRA-Listing.

FOR FURTHER INFORMATION CONTACT: William Parham at (410) 786-4669.

SUPPLEMENTARY INFORMATION: Under the Paperwork Reduction Act of 1995 (PRA) (44 U.S.C. 3501-3520), federal agencies must obtain approval from the Office of Management and Budget (OMB) for each collection of information they conduct or sponsor. The term “collection of information” is defined in 44 U.S.C. 3502(3) and 5 CFR 1320.3(c) and includes agency requests or requirements that members of the public submit reports, keep records, or provide information to a third party. Section 3506(c)(2)(A) of the PRA (44 U.S.C. 3506(c)(2)(A)) requires federal agencies to publish a 30-day notice in the Federal Register concerning each proposed collection of information, including each proposed extension or reinstatement of an existing collection of information, before submitting the collection to OMB for approval. To comply with this requirement, CMS is publishing this notice that summarizes the following proposed collection(s) of information for public comment:

1. Type of Information Collection Request: Revision of an approved collection; Title of Information Collection: Improper Payment Pre-Testing and Assessment (IPPTA) Data Request Form; Use: To comply with the Payment Integrity Information Act of 2019 (PIIA), HHS finalized the IPPTA to prepare State Exchanges for the measurement of improper payments of advance payments of the premium tax credit (APTC), to test processes and procedures that support HHS's review of determinations of APTC made by State Exchanges, and to provide a mechanism for HHS and State Exchanges to share information that would aid in developing an efficient measurement process. The PIIA requires executive agencies to report on Federal programs susceptible to significant improper payments. The APTC program was identified as a Federal program susceptible to significant improper payments. Currently in operation are 19 State Exchanges, which do not use the Federal platform to perform eligibility and enrollment determinations. Each State Exchange was selected to participate in the IPPTA data collection for a period of 2 calendar years, which began in 2024 or will begin in 2025 depending on which group the State Exchange is assigned. HHS has revised the approved data request form to include new instructions and a data mapping tool to aid State Exchanges in their understanding and collecting of necessary data. This collection of data and data documentation is intended to allow HHS to test the data elements as specified in the scenarios provided to each State Exchange in the pre-testing and assessment data request form to enable HHS to comply with the requirements of the Payment Integrity Information Act of 2019 (PIIA) and implementing guidance. Form Number: CMS-10829 (OMB control number: 0938-1439); Frequency: Annually; Affected Public: State, Local, and Federal Government; Number of Respondents: 11; Number of Responses: 11; Total Annual Hours: 265. (For policy questions regarding this collection contact Halina DeSantis at 410-786-1000).

William N. Parham, III,
Director, Division of Information Collections and Regulatory Impacts, Office of Strategic Operations and Regulatory Affairs.

[FR Doc. 2024-25791 Filed 11-5-24; 8:45 am]

BILLING CODE 4120-01-P